DEPARTMENT OF COMMERCE

National Oceanic and Atmospheric Administration

50 CFR Part 622

[Docket No. 140819687-5583-02; RTID 0648-XB688]

Coastal Migratory Pelagic Resources of the Gulf of Mexico and Atlantic Region; 2021-2022 Commercial Closure for Spanish Mackerel in the Atlantic Southern Zone; Correction

AGENCY: National Marine Fisheries Service (NMFS), National Oceanic and Atmospheric Administration (NOAA), Commerce.

ACTION: Temporary rule; correction.

SUMMARY: NMFS corrects the temporary rule that published in the Federal Register on January 3, 2022, which announced the incorrect effective date of January 3, 2022, for the closure of the Atlantic southern zone to commercial harvest of Spanish mackerel. The correct effective date for the closure is January 5, 2022. NMFS identified several errors with references to incorrect dates, so the purpose of this correction is to fix those errors.

DATES: This correction to the temporary rule is effective on January 5, 2022.

FOR FURTHER INFORMATION CONTACT: Mary Vara, NMFS Southeast Regional Office, telephone: 727-824-5305, or email: mary.vara@noaa.gov.

SUPPLEMENTARY INFORMATION:

Corrections

In the Federal Register of January 3, 2022, in FR Doc. 2021-28442, make the following corrections:

1. On page 53, in the first and second columns, correct the second and third sentences of the SUMMARY caption to read: “NMFS has determined that the commercial quota for Spanish mackerel in the Atlantic southern zone will be reached by January 5, 2022. Therefore, NMFS closes the Atlantic southern zone to commercial harvest of Spanish mackerel on January 5, 2022.”

2. On page 53, in the second column, correct the DATES caption to read: “This temporary rule is effective from 6 a.m. eastern time on January 5, 2022, until 12:01 a.m. eastern time on March 1, 2022.”

3. On page 53, in the third column, correct the last two sentences which begin at the eighth line of the paragraph carrying over from the second to the third column of the SUPPLEMENTARY INFORMATION caption to read: “NMFS has determined that the commercial quota for Atlantic Spanish mackerel in the southern zone will be reached by January 5, 2022. Accordingly, the commercial sector for Atlantic Spanish mackerel in the southern zone is closed effective at 6 a.m. eastern time on January 5, 2022, through February 28, 2022, the end of the current fishing year.”

Authority: 16 U.S.C. 1801 et seq.

Dated: January 4, 2022.
Ngagne Jafnar Gueye,
Acting Director, Office of Sustainable Fisheries, National Marine Fisheries Service.

[FR Doc. 2022-00124 Filed 1-4-22; 4:15 pm]

BILLING CODE 3510-22-P